DEPARTMENT OF DEFENSE

GENERAL SERVICES ADMINISTRATION

NATIONAL AERONAUTICS AND SPACE ADMINISTRATION

48 CFR Parts 1, 4, and 8

[FAC 2005-54; Item X; Docket 2011-0078; Sequence 3]

Federal Acquisition Regulation; Technical Amendments

AGENCY: Department of Defense (DoD), General Services Administration (GSA), and National Aeronautics and Space Administration (NASA).

ACTION: Final rule.

SUMMARY: This document makes amendments to the Federal Acquisition Regulation (FAR) in order to make editorial changes.

DATES: Effective Date: November 2, 2011.

FOR FURTHER INFORMATION CONTACT: The Regulatory Secretariat, 1275 First Street, NE., 7th Floor, Washington, DC 20417, (202) 501-4755, for information pertaining to status or publication schedules. Please cite FAC 2005-54, Technical Amendments.

SUPPLEMENTARY INFORMATION: In order to update certain elements in 48 CFR parts 1, 4, and 8, this document makes editorial changes to the FAR.

List of Subjects in 48 CFR Parts 1, 4, and 8

Government procurement.

Dated: October 21, 2011.
Laura Auletta,
Acting Director, Office of Governmentwide Acquisition Policy, Office of Acquisition Policy, Office of Governmentwide Policy.

Therefore, DoD, GSA, and NASA amend 48 CFR parts 1 and 8 as set forth below:

1. The authority citation for 48 CFR parts 1, 4, and 8 continues to read as follows:

Authority: 40 U.S.C. 121(c); 10 U.S.C. chapter 137; and 42 U.S.C. 2473(c).

PART 1—FEDERAL ACQUISITION REGULATIONS SYSTEM

1.106 [Amended]

2. Amend section 1.106, in the table following the introductory text, by adding FAR segments “52.215-22” and “52.215-23” and their corresponding OMB Control Number “9000-0173”.

PART 4—ADMINISTRATIVE MATTERS

4.604 [Amended]

3. Amend section 4.604 in paragraph (c) by removing “guidance, by January 5,” and adding “guidance, within 120 days after the end of each fiscal year,” in its place.

PART 8—REQUIRED SOURCES OF SUPPLIES AND SERVICES

8.501 [Amended]

4. Amend section 8.501 by removing “http://www.nm.blm.gov/www/amfo/amfo_home.html” and adding “http://blm.gov/8pjd” in its place.

[FR Doc. 2011-27791 Filed 11-1-11; 8:45 am]

BILLING CODE 6820-14-P